DEPARTMENT OF HOUSING AND URBAN DEVELOPMENT

[Docket No. FR-5909-N-08]

30-Day Notice of Proposed Information Collection: Public Housing Capital Fund Program

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: March 25, 2016.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QMAC, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in section A.

The Federal Register notice that solicited public comment on the information collection for a period of 60 days was published on November 18, 2015 at 80 FR 72096.

A. Overview of Information Collection

Title of Information Collection: Public Housing Capital Fund Program.

OMB Approval Number: 2577-0157.

Type of Request: Revision of currently approved collection.

Form Number: : HUD Form 50075.1—Annual Statement/Performance and Evaluation Report and HUD-50075.2—Capital Fund Program Five-Year Action Plan, HUD-5084, HUD-5087, HUD-51000, HUD-51001, HUD-51002, HUD-51003, HUD-51004, HUD-51915, HUD-51915-A, HUD-51971-I-II, HUD-52396, HUD-52427, HUD-52482, HUD-52483-A, HUD-52484, HUD-52485, HUD-52651-A, HUD-52829, HUD-52830, HUD-52833, HUD-52845, HUD-52846, HUD-52847, HUD-52849, HUD-53001, HUD-53015, HUD-5370, HUD-5370EZ, HUD-5370C, HUD-5372, HUD-5378, HUD-5460, HUD-52828, 50071, 5370-C1, 5370-C2.

Description of the need for the information and proposed use: The Public Housing Capital Fund Program Final Rule (24 CFR 905) was published in the Federal Register October 24, 2013 (Docket No. 5236-F-02) and was effective on November 25, 2013. The new Capital, Fund Rule de-coupled the capital funding annual performance and evaluation reports (HUD form 50775.1) and 5-Year Action Plan (HUD Form 50075.2) submissions that were formerly combined with the PHA Plan submissions. The HUD-50075.1 and HUD-50075.2 Capital Fund Annual Statement/Performance and Evaluation Report and 5-Year Action Plan forms and associated burden hours (10,070) are being removed from the approval for the PHA Plan under OMB no. 2577-0226 and added to the approval for the Capital Fund Program under OMB no. 2577-0157. The revision to PHA Plan information collection, OMB No. 2577-0226, is being submitted concurrently with this submission. HUD is in the process of moving to an electronic submission of the information collected with forms HUD-50075.1 and HUD-50075.2 under the Activity Planning Module of the Energy and Performance Information Center (EPIC) System. HUD began beta testing of the Activity Planning Module in EPIC in August of 2015. Once beta testing is complete, HUD will begin roll out of the submission of the HUD-50075.1 and HUD-50075.2 data to EPIC in lieu of using the paper forms for submission. The hours for the electronic collection of that information will then be moved from Capital Fund Information Collection, OMB No. 2577-0157 to the EPIC Information Collection—OMB No. 2577-0274.

Respondents (i.e. affected public): Members of Affected Public: State, Local or Local Government and Non-profit organization.

Estimated Number of Respondents: 3,100.

Estimated Number of Responses: 79,044 annual responses.

Frequency of Response: 1.

Average Hours per Response: 3.49.

Total Estimated Burdens: 275,537 hours.

B. Solicitation of Public Comment

This notice is soliciting comments from members of the public and affected parties concerning the collection of information described in section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. chapter 35.

Dated: February 18, 2016.
Colette Pollard,
Department Reports Management Officer, Office of the Chief Information Officer.

[FR Doc. 2016-03919 Filed 2-23-16; 8:45 am]

BILLING CODE 4210-67-P